DEPARTMENT OF STATE

[Public Notice 11891]

Notice of Department of State Sanctions Actions

SUMMARY: The Secretary of State has imposed sanctions on two individuals pursuant.

DATES: The Secretary of State's determination regarding the two individuals and imposition of sanctions on the individuals identified in the SUPPLEMENTARY INFORMATION section were effective on September 30, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) to be a spouse or adult child of any person whose property and interests in property are blocked pursuant to subsection (a)(ii) or (iii) of this section.

Anna Sergeevna Ershova and Olga Sergeevna Sobyanina

The Secretary of State has determined, pursuant to Section 1(a)(v) of E.O. 14024, that Anna Sergeevna Ershova and Olga Sergeevna Sobyanina are a spouse or adult child of Sergey Semyonovich Sobyanin, a person blocked whose property and interests in property are blocked pursuant to subsection (a)(ii) or (iii) of Section 1 of E.O. 14024.

Whitney Baird,
Principal Deputy Assistant Secretary, Bureau of Economic and Business Affairs, Department of State.

[FR Doc. 2022-26319 Filed 12-2-22; 8:45 am]

BILLING CODE 4710-AE-P